DEPARTMENT OF COMMERCE

National Oceanic and Atmospheric Administration

[Docket No. 011102267-3098-04; I.D. 042103C]

Financial Assistance for Marine Mammal Stranding Networks Through the John H. Prescott Marine Mammal Rescue Assistance Grant Program

AGENCY: National Marine Fisheries Service (NMFS), National Oceanic and Atmospheric Administration (NOAA), Commerce.

ACTION: Notice of deadline for correction of application deficiencies.

SUMMARY: The National Marine Fisheries Service (NMFS) (hereinafter “we” or “us”) issues this document to notify eligible applicants for Federal assistance under the 2003/2004 John H. Prescott Marine Mammal Rescue Assistance Grant Program (Prescott Grant Program) of their opportunity to correct deficiencies in their applications. These corrections are limited to: including the correct and completed OMB forms (424, 424A for Categories A and B or 424D for Category C, and 424B for Categories A and B or 424C for Category C) signed and dated; ensuring that the 25-percent non-Federal cost share is reflected in both the 424 and 424A or 424C and the narrative budget justification and ensuring that the narrative budget justification is icluded.

DATES: Corrections must be received at the appropriate address or facsimile (fax) number (see ADDRESSES) no later than 5 p.m. local time on May 1, 2003.

ADDRESSES: Corrections of the specific deficiencies outlined in this notice should be faxed to 301-713-0376, Attn: Prescott Grant Program, or mailed to NOAA/NMFS/Office of Protected Resources, Marine Mammal Health and Stranding Response Program, Attn: Michelle Ordono, 1315 East-West Highway, Room 12604, Silver Spring, MD 20910-3283, phone 301-713-2322 ext 177.

FOR FURTHER INFORMATION CONTACT: Teri Rowles, Marine Mammal Health and Stranding Response Program, phone301-2322 ext 178.

SUPPLEMENTARY INFORMATION: On February 11, 2003 we published a notice of solicitation for applications for the Prescott Grant Program (68 Federal Register 6892). In conducting the screening of applications postmarked by the April 14, 2003 solicitation deadline, there have been specific deficiencies that were originally required in the notice of solicitation for this Program that we will give all eligible applicants the opportunity to correct. These corrections are limited to: including the correct OMB forms (424, 424A for Categories A and B or 424D for Category C, and 424B for Categories A and B or 424C for Category C) signed and dated; ensuring that the required 25-percent non-Federal cost share is reflected in both the 424 and 424A or 424C and the narrative budget justification; and ensuring that the required narrative budget justification is included.

Corrections to applications received by the due date in the DATES section of this notice will be re-screened to ensure that they: were received by the due date in this notice; include the correct and completed OMB forms (424, 424A for Categories A and B or 424D for Category C, and 424B for Categories A and B or 424C for Category C) signed and dated; include the required 25-percent non-Federal cost share is reflected in both the 424 and 424A or 4242C and the narrative budget justification; and include the narrative budget justification.

If corrections are not received by the due date (see DATES section), the original application will be returned to the applicant and will not be considered further in this funding cycle.

Classification

Prior notice and an opportunity for public comments are not required by the Administrative Procedure Act or any other law for this notice concerning grants, benefits, and contracts (5 U.S.C. section 553(a)(2)).

Furthermore, a regulatory flexibility analysis is not required for purposes of the Regulatory Flexibility Act (5 U.S.C. section 601 et seq).

This action has been determined to be not significant for purposes of Executive Order 12866.

Applications under this program are subject to Executive Order 12372, “Intergovernmental Review of Federal Programs.”

Notwithstanding any other provision of law, no person is required to respond to, nor shall any person be subject to a penalty for failure to comply with, a collection of information subject to the requirements of the PRA unless that collection of information displays a currently valid OMB control number.

This document contains collection-of-information requirements subject to the Paperwork Reduction Act (PRA). The use of Standard Forms 424, 424A, 424B, 424C, 424D, 269, and SF-LLL have been approved by OMB under the respective control numbers 0348-0043, 0348-0044, 0348-0040, 0348-0041, 0348-0042, 0348-0039, and 0348-0046.

Send comments regarding this burden estimate, or any other aspect of this data collection, including suggestions for reducing the burden, to NMFS (see FOR FURTHER INFORMATION CONTACT).

Dated: April 23, 2003.
William T. Hogarth,
Assistant Administrator for Fisheries, National Marine Fisheries Service.

[FR Doc. 03-10557 Filed 4-28-03; 8:45 am]

BILLING CODE 3510-22-S